DEPARTMENT OF DEFENSE

Department of the Navy

Notice of Availability of Buildings and Land at a Military Installation Designated for Closure; Naval Air Station (NAS) Barbers Point, Oahu, HI

AGENCY: Department of the Navy, DOD.

ACTION: Notice.

SUMMARY: This notice provides information regarding additional surplus property at NAS Barbers Point, Oahu, Hawaii.

FOR FURTHER INFORMATION CONTACT: Richard A. Engel, Head, BRAC Real Estate Section, Naval Facilities Engineering Command, 1322 Patterson Ave SE., Suite 1000, Washington Navy Yard, DC 20374-5065, telephone (202) 685-9203, or J.M. Kilian, Director, Real Estate Department, Pacific Division, Naval Facilities Engineering Command, 258 Makalapa Drive, Suite 100, Pearl Harbor, HI 96860-3134, telephone (808) 472-1503. For more detailed information regarding particular properties identified in this notice (i.e. acreage, floor plan, sanitary facilities, exact street address, etc.), contact Mr. Roger Au, Base Operating Support, Pacific Division, Naval Facilities Engineering Command, 258 Makalapa Drive, Suite 100, Pearl Harbor, HI 96860-3134, telephone (808) 474-5946.

SUPPLEMENTARY INFORMATION: In 1993, NAS Barbers Point, HI was designated for closure pursuant to the Defense Base Closure and Realignment Act of 1990 (DBCRA), Pub. L. 101-510, as amended. Pursuant to this designation, in October 1995, approximately 2,146.9 acres of land and related facilities at this installation were determined surplus to the Federal Government and available for use by (a) non-Federal, public agencies pursuant to various statutes which authorize conveyance of property for public projects, and (b) homeless provider groups pursuant to the Stewart B. McKinney Homeless Assistance Act (42 U.S.C. 11411), as amended. In June 1997, a second determination was made that 5.7 acres of land and related facilities at this installation were surplus to the Federal Government. On September 4, 2001, a third determination was made that 54.9 acres of land and related facilities at this installation were surplus to the Federal Government. On June 27, 2002, a fourth determination was made that 145.8 acres of land and related facilities at this installation were surplus to the Federal Government.

Notice of Surplus Property: Pursuant to paragraph (7)(B) of section 2905(b) of the DBCRA, as amended by the Base Closure Community Redevelopment and Homeless Assistance Act of 1994, the following information regarding redevelopment authority and additional surplus property at NAS Barbers Point, HI, is published in the Federal Register.

Redevelopment Authority: The local redevelopment authority for NAS Barbers Point, HI, of rpurposes of implementing the provisions of the DBCRA, as amended, is the Barbers Point Naval Air Station Redevelopment Commission. The Barbers Point Naval Air Station Redevelopment Commission was appointed by the Governor of the State of Hawaii to provide advice on the redevelopment of the closing Air Station. A cross section of community interests is represented on the Commission. The point of contact is Mr. William Bass, Executive Director, Barbers Point Naval Air Station Redevelopment Commission, PO Box 75268, Kapolei, HI 96707-0268, telephone (808) 692-7924 or 692-7925, facsimile (808) 692-7926.

Surplus Property Descriptions: The following is a listing of the additional land and facilities at NAS Barbers Point, HI that were declared surplus to the Federal Government on June 27, 2002.

Land: One parcel of land consisting of approximately 145.8 acres of fee simple land at NAS Barbers Point, HI on the island of Oahu, State of Hawaii.

Buildings: The following is a summary of the facilities located on the above-described land. Storage buildings: Seven structures of approximately 4,812 square feet.

Expressions of Interest: Pursuant to paragraph 7(C) of Section 2905(b) of the DBCRA, as amended by the Base Closure Community Redevelopment and Homeless Assistance Act of 1994, state and local governments, representatives of the homeless, and other interested parties located in the vicinity of NAS Barbers Point, HI shall submit to the said local redevelopment authority (Barbers Point Naval Air Station Redevelopment Commission) a notice of interest, of such governments, representatives, and parties in the above described additional surplus property, or any portion thereof. A notice of interest shall describe the need of the government, representative, or party concerned for the desired surplus property. Pursuant to paragraphs 7(C) and (D) of said Section 2905(b), the redevelopment authority shall assist interested parties in evaluating the surplus property for the intended use and publish in a newspaper of general circulation in Hawaii, the date by which expressions of interest must be submitted. In accordance with Section 2(e)(6) of said Base Closure Community Redevelopment and Homeless Assistance Act of 1994, expressions of interest will be solicited by the Barbers Point Naval Air Station Redevelopment Commission.

Dated: July 1, 2002.
R.E. Vincent II,
Lieutenant Commander, Judge Advocate General's Corps, U.S. Navy, Federal Register Liaison Officer.

[FR Doc. 02-17711 Filed 7-12-02; 8:45 am]

BILLING CODE 3810-FF-M